DEPARTMENT OF AGRICULTURE

Grain Inspection, Packers and Stockyards Administration

[06-01-S]

Designation for the Topeka (KS), Minot (ND), and Cincinnati (OH) Areas

AGENCY: Grain Inspection, Packers and Stockyards Administration, USDA.

ACTION: Notice.

SUMMARY: Grain Inspection, Packers and Stockyards Administration (GIPSA) announces designation of the following organizations to provide official services under the United States Grain Standards Act, as amended (Act): Kansas Grain Inspection Service, Inc. (Kansas); Minot Grain Inspection, Inc. (Minot); and Tri-State Grain Inspection Service, Inc. (Tri-State).

EFFECTIVE DATE: July 1, 2006.

ADDRESSES: USDA, GIPSA, John R. Sharpe, Division Director, Compliance Division, STOP 3604, Room 1647-S, 1400 Independence Avenue, SW., Washington, DC 20250-3604.

FOR FURTHER INFORMATION CONTACT: John R. Sharpe at 202-720-8262, e-mail John.R.Sharpe@usda.gov.

SUPPLEMENTARY INFORMATION: This action has been reviewed and determined not to be a rule or regulation as defined in Executive Order 12866 and Departmental Regulation 1512-1; therefore, the Executive Order and Departmental Regulation do not apply to this action.

In the March 1, 2006 Federal Register (71 FR 10471), GIPSA asked persons interested in providing official services in the geographic areas assigned to the official agencies named above to submit an application for designation. Applications were due by March 31, 2006.

Kansas, Minot, and Tri-State were the sole applicants for designation to provide official services in the entire area currently assigned to them, therefore, GIPSA did not ask for additional comments on them.

GIPSA evaluated all available information regarding the designation criteria in Section 7(f)(l)(A) of the Act and, according to Section 7(f)(l)(B), determined that Kansas, Minot, and Tri-State are able to provide official services in the geographic areas specified in the March 1, 2006, Federal Register, for which they applied. These designation actions to provide official services are effective July 1, 2006, and terminate June 30, 2009, for Kansas, Minot, and Tri-State. Interested persons may obtain official services by calling the telephone numbers listed below.

Official agency | Headquarters location and telephone | Designation term
Kansas | Topeka, KS; 785-233-7063. Additional locations: Sydney, NE, Commerce City, CO, and Haxtun, CO | 07/01/06-06/30/09
Minot | Minot, ND; 701-838-1734 | 07/01/06-06/30/09
Tri-State | Cincinnati, OH; 513-251-6571 | 07/01/06-06/30/09

Authority: Public Law 94-582, 90 Stat. 2867, as amended (7 U.S.C. 71 et seq.).

James E. Link,
Administrator, Grain Inspection, Packers and Stockyards Administration.

[FR Doc. E6-8485 Filed 5-31-06; 8:45 am]

BILLING CODE 3410-EN-P